NATIONAL AERONAUTICS AND SPACE ADMINISTRATION

[Notice (09-090)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council. The agenda topics for the meeting will include:

• NASA Administrator Update.

• NASA Ames Research Center Update.

• Review of U.S. Human Space Flight Plans Committee.

• Scientific Update from LCROSS and KEPLER Missions.

• Green Building Initiative at ARC.

DATES: Thursday, October 29, 2009, 1 p.m.-4 p.m. (Western).

ADDRESSES: NASA Ames Conference Center (Building 3), Room: Ballroom, 500 Severyns Avenue, NASA Research Park, NASA Ames Research Center (ARC), Moffett Field, CA 94035-1000.

FOR FURTHER INFORMATION CONTACT: Ms. Marla King, NAC Administrative Officer, National Aeronautics and Space Administration Headquarters, Washington, DC 20546, 202/358-1148.

SUPPLEMENTARY INFORMATION: The meeting will be open to the public up to the seating capacity of the room. It is imperative that the meeting be held on this date to accommodate the scheduling priorities of the key participants. Visitors will need to show a valid picture identification such as driver's license to enter into the NASA Research Park, and must state they are attending the NASA Advisory Council meeting in the NASA Ames Research Center Conference Center. All non-U.S. citizens must submit their name, current address, citizenship, company affiliation (if applicable) to include address, telephone number, and their title, place of birth, date of birth, U.S. visa information to include type, number, and expiration date, U.S. Social Security Number (if applicable), Permanent Resident Alien card number and expiration date (if applicable), place and date of entry into the U.S., and passport information to include country of issue, number, and expiration date to Ms. Rho Christensen, Protocol Specialist, Office of the Center Director, NASA Ames Research Center, Moffett Field, CA, by October 22, 2009. For questions, please call Ms. Rho Christensen at (650) 604-2476.

Dated: October 8, 2009.
P. Diane Rausch,
Advisory Committee Management Officer, National Aeronautics and Space Administration.

[FR Doc. E9-24792 Filed 10-13-09; 8:45 am]

BILLING CODE 7510-13-P